DEPARTMENT OF STATE

[Public Notice 8452]

Waiver of Restriction on Assistance to the Central Government of Afghanistan

Pursuant to Section 7031(b)(3) of the Department of State, Foreign Operations, and Related Programs Appropriations Act, 2012 (Div. I, Pub. L. 112-74) (“the Act”), as carried forward by the Further Continuing Appropriations Act, 2013 (Div. F, Pub. L. 113-6), and Department of State Delegation of Authority Number 245-1, I hereby determine that it is important to the national interest of the United States to waive the requirements of Section 7031(b)(1) of the Act and similar provisions of law in prior year Acts with respect to Afghanistan and I hereby waive this restriction.

This determination and the accompanying Memorandum of Justification shall be reported to the Congress, and the determination shall be published in the Federal Register.

Dated: July 12, 2013.
William J. Burns,
Deputy Secretary.

[FR Doc. 2013-21771 Filed 9-5-13; 8:45 am]

BILLING CODE 4710-02-P